DEPARTMENT OF TRANSPORTATION

Federal Highway Administration

[Project No. STP-036-1 (11) Paia Bypass]

Environmental Impact Statement: Maui County, HI; Notice of Intent

AGENCY: Federal Highway Administration (FHWA), Hawaii Department of Transportation (HDOT).

SUMMARY: The Federal Highway Administration (FHWA) is issuing this notice of intent in order to advise the public that an Environmental Impact Statement (EIS) will be prepared to evaluate alternatives that would reduce congestion and improve safety and reliability of Hana Highway between the intersection of Hana Highway with Haleakala Highway and Maliko Gulch on the north side of the Island of Maui in the Paia-Haiku region. This section is the primary travel way for the movement of people and goods between east Maui and the Wailuku/Kahului area where connections are made to other parts of the island.

FOR FURTHER INFORMATION CONTACT: Pat V. Phung, Lead Civil Engineer, Federal Highway Administration, Hawaii Division, Box 50206, 300 Ala Moana Boulevard, Room 3-306, Honolulu, Hawaii 96850, Telephone: (808) 541-2305.

SUPPLEMENTARY INFORMATION: The FHWA, in cooperation with the Hawaii Department of Transportation (HDOT), will prepare an Environmental Impact Statement (EIS) to evaluate alternatives that would reduce congestion and improve safety and reliability of Hana Highway between the intersection of Hana Highway with Haleakala Highway and Maliko Gulch on the north side of the Island of Maui in the Paia-Haiku region.

Purposes and needs for the project have been established through a collaborative effort that has included community input. The Purpose and Need for the project will be finalized after the completion of the scoping process. The project's purposes have been defined to date as follows:

1. Reduce Vehicle Travel Times.

2. Alleviate Congestion in Paia.

3. Improve Safety for All Modes of Travel.

4. Provide Improved, More Convenient Access to the Towns of Paia and Haiku.

5. Support Paia's Quality of Life through Transportation Improvements.

The NEPA scoping process being initiated by the publication of this NOI is intended to generate a full range of project alternatives for subsequent evaluation. The No-Build alternative would leave Hana Highway in its current condition except for possible short-term and minor improvements such as safety upgrades and maintenance. A Transportation System Management (TSM) alternative would include elements such as restriping the roadway, enhancing transit service, establishing contra-flow lanes, and/or widening the roadway in place. The TSM alternative could also include establishing and improving intersections along the existing roadway through techniques such as channelization, parking removal, roundabouts, or left turn lanes. Build alternatives are anticipated to widen the existing Hana Highway, use different alignments to bypass Paia, or incorporate a combination of these measures.

The purpose of the EIS process is to explore in a public setting potentially significant effects of implementing the proposed action on the physical, human, and natural environment. Areas of investigation for this project will include but are not limited to cultural resources, archaeological resources, biological resources, social impact, engineering feasibility, schedule, land use pattern, shoreline access, residential displacements, impacts on existing businesses, air quality, and noise. Measures to avoid, minimize, or mitigate any significant adverse impacts will be identified. The documents that will be produced include the Draft and Final Environmental Impact Statement (DEIS and FEIS) and the Record of Decision (ROD).

The EIS will be prepared in accordance with regulations implementing the National Environmental Policy Act (NEPA), as well as provisions of the Safe, Accountable, Flexible, Efficient Transportation Equity Act: A Legacy for Users (SAFETEA-LU). The purpose of this Notice of Intent is to alert interested parties regarding the plan to prepare the EIS, to provide information on the nature of the proposed project, to invite participation in the EIS process, including comments on the scope of the EIS proposed in this notice. An announcement of formal public scoping meeting will published at a later date.

Regulations implementing NEPA, as well as provisions of SAFETEA-LU, call for public involvement in the EIS process. Section 6002 of SAFETEA-LU requires that FHWA and HDOT do the following: (1) Extend an invitation to other government agencies and Native Hawaiian organizations that may have an interest in the proposed project to become “participating agencies,” (2) provide an opportunity for involvement by participating agencies and the public in helping to define the purpose and need for this proposed project, as well as the range of alternatives for consideration in the impact statement, and (3) establish a plan for coordinating public and agency participation in and comment on the environmental review process.

To comply with these regulations, an invitation to become a participating agency will be extended to other government agencies and Native Hawaiian organizations that may have an interest in the proposed project.

The Paia Relief Route Advisory Group (PRAG) has also been formed to help advise HDOT on key aspects of the project such as project purpose and need, project goals, and development and ranking of alternatives. Similar to all community meetings, the Advisory Group meetings will be open to the public, accessible to people with disabilities, and held on Maui at times and locations convenient to those that live and work in the study area.

Issued on: October 29, 2009.
Abraham Wong,
Division Administrator, Hawaii Division.

[FR Doc. E9-27200 Filed 11-16-09; 8:45 am]

BILLING CODE P